DEPARTMENT OF ENERGY

Federal Energy Regulatory Commission

[Docket No. EL99-73-002, et al.]

Griffiss Local Development Corporation, et al. Electric Rate and Corporate Regulation Filings

July 12, 2002.

The following filings have been made with the Commission. The filings are listed in ascending order within each docket classification.

1. Griffiss Local Development Corporation, Niagara Mohawk Power Corporation, Griffiss Local Development Corporation, and Oneida County Industrial Development Agency

[Docket Nos. EL99-73-002 and ER02-2285-000]

Take notice that on June 24, 2002, Griffiss Local Development Corporation (GLDC) and Oneida County Industrial Development Agency (Oneida IDA), on behalf of Niagara Mohawk Power Corporation, a National Grid Company (Niagara Mohawk), tendered for filing with the Federal Energy Regulatory Commission (Commission) a Joint Settlement proposal resolving all issues in this proceeding and an Explanatory Statement in support thereof; and a proposed new rate schedule to be filed by Niagara Mohawk upon acceptance of Joint Proposal and to be designated as Niagara Mohawk's Rate Schedule FERC No. 315. On June 25, 2002, Griffiss filed a supplement to the Joint Settlement proposal. These two filings were both filed under Docket No. EL99-73-000.

Also, take notice that on June 24, 2002, Niagara Mohawk, GLDC and Oneida IDA filed Original Sheet Nos. 1-18, Rate Schedule No. 315, Settlement Service Agreement Administered Under Service Classification No. 12, effective January 1, 2002.

Comment Date: July 26, 2002.

2. Cleco Power LLC

[Docket Nos. ER01-1099-000, ER01-1099-001, ER01-1099-002, ER01-2147-000, ER01-3095-000, and ER02-1042-000]

Take notice that on July 3, 2002, Cleco Power LLC (Cleco Power) tendered for filing a letter requesting that Cleco Power be allowed to comply with the new electronic filings requirements under Order 2001 rather than file individual standard form service agreements in paper copy as previously directed by the Commission in the above referenced dockets.

Comment Date: July 24, 2002.

3. California Independent System Operator Corporation

[Docket No. ER02-651-002]

Take notice that on July 3, 2002, the California Independent System Operator Corporation (ISO) tendered for filing revised ISO Tariff sheets to comply with the Commission's June 3, 2002 Order in the above-referenced docket.

The ISO states that the filing has been served on each person designated on the official service list compiled by the Secretary in this proceeding.

Comment Date: July 24, 2002.

4. Central Illinois Light Company

[Docket No. ER02-708-003]

Take notice that on July 3, 2002, Central Illinois Light Company (CILCO), tendered for filing with the Federal Energy Regulatory Commission (Commission) amendments to CILCO's Ancillary Service Tariff to comply with the Commission's June 3, 2002 Order in this docket.

CILCO requested an effective date of February 1, 2002 for these amendments. Copies of the filing were served on the Illinois Commerce Commission and the service list in this docket.

Comment Date: July 24, 2002.

5. Midwest Independent Transmission System Operator, Inc.

[Docket No. ER02-1420-003]

Take notice that on July 3, 2002, The Empire District Electric Company (Empire), in compliance with the Federal Energy Regulatory Commission's (Commission) May 31, 2002 Order in this proceeding, submitted a compliance filing notifying the Commission that it intended to participate in the regional transmission organization that will result from the planned consolidation of Southwest Power Pool, Inc. and the Midwest Independent Transmission System Operator, Inc.

A copy of the filing was served upon the parties on the official Commission service list in this docket and on the public utility commissions for each state in which Empire owns transmission facilities.

Comment Date: July 24, 2002.

6. Dearborn Industrial Generation, LLC

[Docket No. ER02-1689-002]

Take notice that on July 2, 2002, Dearborn Industrial Generation, LLC (DIG) filed a revised Market-Based Rate Tariff and Code of Conduct. Upon review of the subject tariff, we have noticed a typographical error. In Part II, paragraph 2 the word “serve” was omitted from the third sentence.

Comment Date: July 22, 2002.

7. David Sholk

[Docket No. ER02-1725-001]

Take notice that on June 25, 2002, David Sholk filed an amendment to Docket No. ER02-1725-000. The amendment includes a proposed David Sholk Electric Rate Tariff.

Comment Date: July 26, 2002.

8. PJM Interconnection, L.L.C.

[Docket No. ER02-2255-000]

Take notice that on July 3, 2002 PJM Interconnection, L.L.C. (PJM), submitted for filing one executed interim interconnection service agreement and one executed interconnection service agreement between PJM and PSEG Power, L.L.C. PJM requests a waiver of the Commission's 60-day notice requirement to permit the effective dates agreed to by the parties.

Copies of this filing were served upon each of the parties to the agreements and the state regulatory commissions within the PJM region.

Comment Date: July 24, 2002.

9. PJM (East) Interconnection, L.L.C.

[Docket No. ER02-2256-000]

Take notice that on July 3, 2002, the PJM (East) Transmission Owners Agreement Administrative Committee (TOAC) submitted for filing an amendment to the PJM Transmission Owners Agreement of June 2, 1997, on file with the Federal Energy Regulatory Commission (Commission) as PJM Interconnection LLC Rate Schedule No. 33. The amendment revises the TOA so as to permit a category of Transmission Owner whose obligation to participate in certain TOA activities under the PJM Operating Agreement is limited consistent with the limited nature of its ownership of transmission facilities.

Copies of this filing have been served on PJM Interconnection, LLC, the PJM (East) Transmission Owners, and the state electric regulatory commissions in the PJM (East) control area.

Comment Date: July 24, 2002.

10. California Independent System Operator Corporation

[Docket No. ER02-2257-000]

Take notice that on July 3, 2002, the California Independent System Operator Corporation, (ISO) tendered for filing a Participating Generator Agreement between the ISO and Monterey Regional Waste Management District for acceptance by the Federal Energy Regulatory Commission.

The ISO states that this filing has been served on Monterey Regional Waste Management District and the California Public Utilities Commission. The ISO is requesting waiver of the 60-day notice requirement to allow the Participating Generator Agreement to be made effective June 20, 2002.

Comment Date: July 24, 2002.

11. California Independent System Operator Corporation

[Docket No. ER02-2258-000]

Take notice that on July 3, 2002, the California Independent System Operator Corporation, (ISO), tendered for filing a Meter Service Agreement for ISO Metered Entities between the ISO and the Monterey Regional Waste Management District for acceptance by the Federal Energy Regulatory Commission.

The ISO states that this filing has been served on the Monterey Regional Waste Management District and the California Public Utilities Commission. The ISO is requesting waiver of the 60-day notice requirement to allow the Meter Service Agreement for ISO Metered Entities to be made effective June 20, 2002.

Comment Date: July 24, 2002.

12. PPL Electric Utilities Corporation

[Docket No. ER02-2259-000]

Take notice that on July 3, 2002, PPL Electric Utilities Corporation (PPL Electric Utilities) tendered for filing an Interconnection Agreement between PPL Electric Utilities and Masonic Homes.

Comment Date: July 24, 2002.

13. Public Service Company of New Mexico

[Docket No. ER02-2260-000]

Take notice that on July 3, 2002, Public Service Company of New Mexico (PNM) submitted for filing two executed service agreements for firm point-to-point transmission service with PNM's Wholesale Power Marketing (PNMM), under the terms of PNM's Open Access Transmission Tariff. The first agreement is for 173 MW of firm point-to-point transmission service from Palo Verde Nuclear Generating Station 500kV Switchyard (Palo Verde) to the Westwing 345kV Switching Station (Westwing) for calendar year 2001. The second agreement is for 293 MW of firm point-to-point transmission service from Palo Verde to Westwing for calendar year 2002. PNM requests January 1, 2001 and January 1, 2002 respectively, as the effective date for each agreement. PNM's filing is available for public inspection at its offices in Albuquerque, New Mexico.

Copies of the filing have been sent to PNMM, the New Mexico Public Regulation Commission and the New Mexico Attorney General.

Comment Date: July 24, 2002.

14. The Detroit Edison Company

[Docket No. ER02-2261-000]

Take notice that on July 3, 2002, The Detroit Edison Company (Detroit Edison) tendered for filing Service Agreements for wholesale power sales transactions (the Service Agreements) under Detroit Edison's Wholesale Power Sales Tariff (WPS-2), FERC Electric Tariff No. 3 (the WPS-2 Tariff) between Detroit Edison and the following parties: CMS MST Michigan LLC; FirstEnergy Solutions Corp.; and Quest Energy LLC.

Comment Date: July 24, 2002.

15. Cleco Power LLC

[Docket No. ER02-2262-000]

Take notice that on July 3, 2002, Cleco Power LLC (Cleco) filed a service agreement with Acadia Power Partners, LLC for ancillary services under Cleco's open access transmission tariff (OATT). The Service Agreement is designated as Cleco Power LLC Service Agreement No. 61 to its OATT, FERC Electric Tariff, Original Volume No. 1.

Comment Date: July 24, 2002.

16. San Diego Gas & Elec. Company, et al.

[Docket No. ER02-2263-000]

Take notice that on July 3, 2002, Southern California Edison Company (SCE) filed a Market-Based Rate Tariff in order to comply with the Federal Energy Regulatory Commission's Order of December 19, 2001. A copy of this compliance filing has been served on the parties included on the Secretary's official service list for this proceeding.

Comment Date: July 24, 2002.

17. Edison Sault Electric Company, Madison Gas and Electric Company, Upper Peninsula Power Company, Wisconsin Electric Power Company, Wisconsin Power and Light Company, and Wisconsin Public Service Corporation

[Docket No. ER02-2264-000]

Take notice that on July 5, 2002, Edison Sault Electric Company, Madison Gas and Electric Company, Upper Peninsula Power Company, Wisconsin Electric Power Company, Wisconsin Power and Light Company, and Wisconsin Public Service Corporation tendered for filing a Limited Redispatch Agreement and Amendment No. 1 to the Limited Redispatch Agreement as a bilateral agreement pursuant to the congestion management provisions of Attachment K of the Midwest ISO's open access transmission tariff to create new Firm Transmission Service.

Comment Date: July 26, 2002.

18. Louisville Gas and Electric Company, Kentucky Utilities Company

[Docket No. ER02-2265-000]

Take notice that on July 5, 2002, Louisville Gas and Electric Company (LG&E)/Kentucky Utilities (KU) (hereinafter Companies) tendered for filing an amendment to the full requirement power contract between the Companies and the City of Madisonville Kentucky (Rate Schedule FERC No 162). The amendment removes contractual language between the City of Madisonville and the Southeastern Power Administration (SEPA). The SEPA language has been incorrectly attached to the power agreement.

Comment Date: July 26, 2002

19. Louisville Gas and Electric Company, Kentucky Utilities Company

[Docket No. ER02-2266-000]

Take notice that on July 5, 2002 , Louisville Gas and Electric Company (LG&E)/Kentucky Utilities (KU) (hereinafter Companies) tendered for filing an amendment to the full requirement power contract between the Companies and the City of Madisonville Kentucky (Rate Schedule FERC No 191). The amendment removes contractual language between the City of Madisonville and the Southeastern Power Administration (SEPA). The SEPA language has been incorrectly attached to the power agreement.

Comment Date: July 26, 2002.

20. Louisville Gas and Electric Company, Kentucky Utilities Company

[Docket No. ER02-2267-000]

Take notice that on July 5, 2002, Louisville Gas and Electric Company (LG&E)/Kentucky Utilities (KU) (hereinafter Companies) tendered for filing an amendment to the full requirement power contract between the Companies and the City of Madisonville Kentucky (Rate Schedule FERC No 193). The amendment removes contractual language between the City of Madisonville and the Southeastern Power Administration (SEPA). The SEPA language has been incorrectly attached to the power agreement.

Comment Date: July 26, 2002.

21. Louisville Gas and Electric Company, Kentucky Utilities Company

[Docket No. ER02-2268-000]

Take notice that on July 5, 2002, Louisville Gas and Electric Company (LG&E)/Kentucky Utilities (KU) (hereinafter Companies) tendered for filing an amendment to the full requirement power contract between the Companies and the City of Nicholasville Kentucky (Rate Schedule FERC No 157). The amendment removes contractual language between the City of Nicholasville and the Southeastern Power Administration (SEPA). The SEPA language has been incorrectly attached to the power agreement.

Comment Date: July 26, 2002.

22. Louisville Gas and Electric Company, Kentucky Utilities Company

[Docket No. ER02-2269-000]

Take notice that on July 5, 2002, Louisville Gas and Electric Company (LG&E)/Kentucky Utilities (KU) (hereinafter Companies) tendered for filing an amendment to the full requirement power contract between the Companies and the City of Bardwell Kentucky (Rate Schedule FERC No 186). The amendment removes contractual language between the City of Bardwell and the Southeastern Power Administration (SEPA). The SEPA language has been incorrectly attached to the power agreement.

Comment Date: July 26, 2002.

23. Louisville Gas and Electric Company, Kentucky Utilities Company

[Docket No. ER02-2270-000]

Take notice that on July 5, 2002, Louisville Gas and Electric Company (LG&E)/Kentucky Utilities (KU) (hereinafter Companies) tendered for filing an amendment to the full requirement power contract between the Companies and the City of Barbourville Kentucky (Rate Schedule FERC No 184). The amendment removes contractual language between the City of Barbourville and the Southeastern Power Administration (SEPA). The SEPA language has been incorrectly attached to the power agreement.

Comment Date: July 26, 2002.

24. Louisville Gas and Electric Company, Kentucky Utilities Company

[Docket No. ER02-2271-000]

Take notice that on July 5, 2002, Louisville Gas and Electric Company (LG&E)/Kentucky Utilities (KU) (hereinafter Companies) tendered for filing an amendment to the full requirement power contract between the Companies and the City of Bardstown Kentucky (Rate Schedule FERC No 185). The amendment removes contractual language between the City of Bardstown and the Southeastern Power Administration (SEPA). The SEPA language has been incorrectly attached to the power agreement.

Comment Date: July 26, 2002.

25. Louisville Gas and Electric Company, Kentucky Utilities Company

[Docket No. ER02-2272-000]

Take notice that on July 5, 2002, Louisville Gas and Electric Company (LG&E)/Kentucky Utilities (KU) (hereinafter Companies) tendered for filing an amendment to the full requirement power contract between the Companies and the City of Madisonville Kentucky (Rate Schedule FERC No 194). The amendment removes contractual language between the City of Madisonville and the Southeastern Power Administration (SEPA). The SEPA language has been incorrectly attached to the power agreement.

Comment Date: July 26, 2002.

26. Louisville Gas and Electric Company, Kentucky Utilities Company

[Docket No. ER02-2273-000]

Take notice that on July 5, 2002, Louisville Gas and Electric Company (LG&E)/Kentucky Utilities (KU) (hereinafter Companies) tendered for filing an amendment to the full requirement power contract between the Companies and the City of Frankfort Kentucky (Rate Schedule FERC No 190). The amendment removes contractual language between the City of Frankfort and the Southeastern Power Administration (SEPA). The SEPA language has been incorrectly attached to the power agreement.

Comment Date: July 26, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket#” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-18214 Filed 7-18-02; 8:45 am]

BILLING CODE 6717-01-P